ENVIRONMENTAL PROTECTION AGENCY

[ER-FRL-9056-8]

Environmental Impact Statements; Notice of Availability

Responsible Agency: Office of Federal Activities, General Information 202-564-5632 or https://www.epa.gov/nepa.

Weekly receipt of Environmental Impact Statements (EIS)

Filed May 24, 2021 10 a.m. EST Through May 28, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210061, Final, USFS, CA, Stanislaus National Forest Over-Snow Vehicle (OSV) Use Designation, Review Period Ends: 07/06/2021, Contact: Kathryn Wilkinson 248-672-0518.

EIS No. 20210062, Final, TREAS, MD, Construction and Operation of a Currency Production Facility within the National Capital Region, Review Period Ends: 07/06/2021, Contact: Charles Davis 202-874-3259.

EIS No. 20210063, Draft Supplement, USACE, CA, American River Watershed Common Features Water Resources Development Act of 2016, American River Contract 2, Comment Period Ends: 07/19/2021, Contact: Public Affairs Office 916-557-5101.

EIS No. 20210064, Draft, GSA, MD, U.S. Food and Drug Administration Muirkirk Road Campus Master Plan, Comment Period Ends: 07/19/2021, Contact: Marshall Popkin 202-919-0026.

EIS No. 20210065, Final, BIA, NV, Southern Bighorn Solar Projects, Review Period Ends: 07/06/2021, Contact: Chip Lewis 602-390-2014.

Dated: May 28, 2021.
Cindy S. Barger,
Director, NEPA Compliance Division, Office of Federal Activities.

[FR Doc. 2021-11736 Filed 6-3-21; 8:45 am]

BILLING CODE 6560-50-P